POSTAL SERVICE

Temporary Emergency Committee of the Board of Governors; Sunshine Act Meeting

DATES AND TIMES: Tuesday, November 13, 2018, at 10:30 a.m.; and Wednesday, November 14, 2018, at 8:30 a.m.

PLACE: Washington, DC, at U.S. Postal Service Headquarters, 475 L'Enfant Plaza SW, in the Benjamin Franklin Room.

STATUS: Tuesday, November 13, 2018, at 10:30 a.m.; Wednesday, November 14, 2018, at 8:30 a.m.—Open.

Matters To Be Considered

Tuesday, November 13, 2018, at 10:30 a.m. (Closed)

1. Strategic Issues.

2. Financial Matters.

3. Compensation and Personnel Matters.

4. Executive Session—Discussion of prior agenda items and Board governance.

Wednesday, November 14, 2018, at 8:30 a.m. (Open)

1. Remarks of the Chairman of the Temporary Emergency Committee of the Board.

2. Remarks of the Postmaster General and CEO.

3. Approval of Minutes of Previous Meetings.

4. Committee Reports.

5. FY2018 10K and Financial Statements.

6. FY2019 IFP and Financing Resolution.

7. FY2020 Appropriations Request.

8. Quarterly Service Performance Report.

9. Approval of Annual Report and Comprehensive Statement.

10. Draft Agenda for February meetings.

11. Public Comment Period.

CONTACT PERSON FOR MORE INFORMATION: Acting Secretary of the Board, U.S. Postal Service, 475 L'Enfant Plaza SW, Washington, DC 20260-1000. Telephone: (202) 268-4800.

Michael J. Elston,
Acting Secretary.

[FR Doc. 2018-24487 Filed 11-5-18; 4:15 pm]

BILLING CODE 7710-12-P